DEPARTMENT OF AGRICULTURE

Rural Utilities Service

Tri-State Generation and Transmission Association, Inc.; Notice of Intent To Hold A Public Workshop and Prepare an Environmental Assessment

AGENCY: Rural Utilities Service, USDA.

ACTION: Notice of intent to hold a public workshop and prepare an environmental assessment.

SUMMARY: The Rural Utilities Service (RUS) intends to hold a public scoping workshop and prepare an environmental assessment (EA) in connection with possible impacts related to the construction and operation of a combustion turbine generation facility. The project is being proposed by Tri-State Generation and Transmission Association, Inc. (Tri-State), of Westminster, Colorado. RUS will conduct a public scoping workshop at the Lordsburg High School, 41 W. 4th Street, Lordsburg, New Mexico. The meeting/workshop will be held on May 16, 2001, from 4 p.m. until 8 p.m.

FOR FUTHER INFORMATION CONTACT: Dennis E. Rankin, Environmental Protection Specialist, RUS, Engineering and Environmental Staff, Stop 1571, 1400 Independence Avenue, SW, Washington, DC 20250-1571, telephone: (202) 720-1953 or e-mail: drank@inrus.usda.gov.; or Karl Myers, Senior Environmental Planner, Tri-State, P.O. Box 33695, Denver, Colorado 80233, telephone: (303) 452-6111 or e-mail: kmyerstristategt.org.

SUPPLEMENTARY INFORMATION: Tri-State is proposing to construct a 150 MW peaking facility consisting of four GE LM6000 combustion turbine generators with associated auxiliary and support facilities including transmission connections and a high-pressure natural gas pipeline connection available for commercial dispatch in January 2003. The preferred site is located approximately 12 miles southeast of Lordsburg, New Mexico. The preferred transmission alternative is to connect these generators via two new/rebuilt 115 kV lines between the generating site and the Hidalgo 115 kV Substation.

RUS may provide financial assistance for the project. The Bureau of Land Management has received a right-of-way application for the 115 kV transmission line. The EA will address the impacts associated with granting the right-of-way.

Alternatives to be considered by RUS include no action, load management and energy conservation, purchase power, alternative generators and alternative sites.

Comments regarding the proposed project may be submitted in writing at the public meeting/workshop or in writing no later than June 16, 2001, to RUS at the address provided above.

An environmental assessment (EA) will be prepared for the proposed project. Based on a review of the Environmental Assessment and other relevant information, RUS will determine if the preparation of an environmental impact statement is necessary. Should RUS determine that the preparation of an environmental impact statement is not necessary, it will prepare a Finding of No Significant Impact.

Any final action by RUS related to the proposed project will be subject to, and contingent upon, compliance with all relevant Federal, State and local environmental laws and regulations and completion of the environmental review procedures as prescribed by RUS's Environmental Policies and Procedures.

Dated: April 25, 2001.
Mark S. Plank,
Acting Director, Engineering and Environmental Staff.

[FR Doc. 01-10777 Filed 4-30-01; 8:45 am]

BILLING CODE 3410-15-P